DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than April 20, 2018.

Interested persons are invited to submit written comments regarding the subject matter of the investigations to the Director, Office of Trade Adjustment Assistance, at the address shown below, not later than April 20, 2018.

The petitions filed in this case are available for inspection at the Office of the Director, Office of Trade Adjustment Assistance, Employment and Training Administration, U.S. Department of Labor, Room N-5428, 200 Constitution Avenue NW, Washington, DC 20210.

Signed at Washington, DC, this 27th day of February 2018.
Hope D. Kinglock,
Certifying Officer, Office of Trade Adjustment Assistance.

Appendix
[117 TAA petitions instituted between 1/29/18 and 2/23/18]
TA-W | Subject firm (petitioners) | Location | Date of institution | Date of petition
93458 | ABC Coke, Division of Drummond Company, Inc. (State/One-Stop) | Tarrant, AL | 01/29/18 | 01/26/18
93459 | Ascena Retail Group Inc/Maurices (State/One-Stop) | Duluth, MN | 01/29/18 | 12/11/17
93460 | Ascension Health/Ministry (Workers) | Appleton, WI | 01/29/18 | 01/09/18
93461 | AT&T (Workers) | El Paso, TX | 01/29/18 | 01/24/18
93462 | Bank of America (State/One-Stop) | Simi Valley, CA | 01/29/18 | 12/01/17
93463 | California Psychology Association (State/One-Stop) | Valley Village, CA | 01/29/18 | 12/11/17
93464 | Callery (Company) | Evans City, PA | 01/29/18 | 11/29/17
93465 | CHS (State/One-Stop) | Inver Grove Heights, MN | 01/29/18 | 12/18/17
93466 | CMS Labor Services (State/One-Stop) | Hartsville, SC | 01/29/18 | 01/26/18
93467 | Ericsson, Inc. (Workers) | Waltham, MA | 01/29/18 | 01/10/18
93468 | First Guaranty Mortgage Corp (State/One-Stop) | Frederick, MD | 01/29/18 | 01/11/18
93469 | Hemlock Semiconductor (State/One-Stop) | Hemlock, MI | 01/29/18 | 12/20/17
93470 | IBM (State/One-Stop) | Phoenix, AZ | 01/29/18 | 12/20/17
93471 | Payless (State/One-Stop) | Topeka, KS | 01/29/18 | 01/26/18
93472 | PDM Steel Service Centers, Inc. (State/One-Stop) | Stockton, CA | 01/29/18 | 01/26/18
93473 | Prolifics, Inc. (State/One-Stop) | Calabasas, CA | 01/29/18 | 01/26/18
93474 | TE Connectivity (Workers) | Mt. Joy, PA | 01/29/18 | 11/28/17
93475 | Vyaire (State/One-Stop) | Plymouth, MN | 01/29/18 | 11/27/17
93476 | Tenax (State/One-Stop) | Evergreen, AL | 01/29/18 | 12/12/17
93477 | TitanX Engine Cooling, Inc. (Company) | Jamestown, NY | 01/29/18 | 12/21/17
93478 | Unitek Services Inc. at GE Erie (State/One-Stop) | Erie, PA | 01/29/18 | 01/09/18
93479 | Unitron US Inc. (State/One-Stop) | Plymouth, MN | 01/29/18 | 12/14/17
93480 | Quad Graphics Waseca (State/One-Stop) | Waseca, MN | 01/29/18 | 12/14/17
93481 | A.M. General LLC. (Union) | Mishawaka, IN | 01/30/18 | 01/27/18
93482 | Arkema, Inc. (State/One-Stop) | King of Prussia, PA | 01/30/18 | 01/24/18
93483 | AVX Corporation (Company) | Myrtle Beach, SC | 01/30/18 | 01/24/18
93484 | CA Technologies (State/One-Stop) | Fort Collins, CO | 01/30/18 | 01/12/18
93485 | CHS (State/One-Stop) | South Sioux City, NE | 01/30/18 | 01/16/18
93486 | Continental Tire (State/One-Stop) | Mt. Vernon, IL | 01/30/18 | 01/12/18
93487 | E. I. Du Pont de Nemours & Company (State/One-Stop) | Nevada, IA | 01/30/18 | 01/19/18
93488 | H.Kramer (State/One-Stop) | Chicago, IL | 01/30/18 | 01/12/18
93489 | Itron, Inc including on-site leased workers from Crown Services, Inc. (State/One-Stop) | Owenton, KY | 01/30/18 | 01/25/18
93490 | LSC Communications US, LLC. (State/One-Stop) | Long Prairie, MN | 01/30/18 | 01/19/18
93491 | Manpower Employment Agency Company) | Neosho, MO | 01/30/18 | 01/18/18
93492 | Outokumpu Stainless USA, LLC (State/One-Stop) | Bannockburn, IL | 01/30/18 | 01/12/18
93493 | Ryerson (State/One-Stop) | Blytheville, AR | 01/30/18 | 01/26/18
93494 | Secure Toss (State/One-Stop) | Vernon, VT | 01/30/18 | 01/23/18
93495 | Teradyne, Field Services (State/One-Stop) | North Reading, MA | 01/30/18 | 01/29/18
93496 | Transweb/Parker (Workers) | Vineland, NJ | 01/30/18 | 01/23/18
93497 | WKW Extrusion-Bowers Manufacturing Company (State/One-Stop) | Portage, MI | 01/30/18 | 01/26/18
93498 | Yanfeng Global Automotive Interiors (State/One-Stop) | Highland Park, MI | 01/30/18 | 01/17/18
93499 | Zodiac Seats CA, LLC (State/One-Stop) | Rancho Cucamonga, CA | 01/30/18 | 01/18/18
93500 | Autolite Fram Group (Union) | Fostoria, OH | 01/31/18 | 01/30/18
93501 | Boyd Coffee Company (Company) | Portland, OR | 01/31/18 | 01/29/17
93502 | Kentucky Electric Steel Company (Union) | Ashland, KY | 01/31/18 | 01/26/18
93503 | Medtronic (Company) | Littleton, MA | 01/31/18 | 01/30/18
93504 | Transamerica Life Insurance Company (Workers) | St. Petersburg, FL | 01/31/18 | 01/30/18
93505 | Tridien Medical (Company) | Fishers, IN | 01/31/18 | 01/29/18
93506 | AIG PC Global Services, Inc. (State/One-Stop) | New York, NY | 02/01/18 | 01/31/18
93507 | Cherrington Enterprise—Production (State/One-Stop) | Clarissa, MN | 02/01/18 | 01/31/18
93508 | Nippon Steel & Sumikin Materials USA Inc (Company) | Fayetteville, TN | 02/01/18 | 01/31/18
93509 | Skretting dba Nelson and Son's (State/One-Stop) | Tooele, UT | 02/01/18 | 01/31/18
93510 | Transact Technologies (State/One-Stop) | Ithaca, NY | 02/01/18 | 01/31/18
93511 | CMA CGM (America) (State/One-Stop) | Norfolk, VA | 02/02/18 | 02/01/18
93512 | Gildan Garments Inc. (Company) | New Bedford, MA | 02/02/18 | 02/02/18
93513 | KACO New Energy, Inc. (KACO USA) (Company) | San Antonio, TX | 02/02/18 | 01/30/18
93514 | Meijer Inc. Great Lakes Partnership (State/One-Stop) | Grand Rapids, MI | 02/02/18 | 01/31/18
93515 | Travelport (Workers) | Centennial, CO | 02/02/18 | 02/01/18
93516 | Amtrol, Inc. (State/One-Stop) | West Warwick, RI | 02/05/18 | 02/02/18
93517 | Triumph Aerostructures, Vought Aircraft (Union) | Grand Prairie, TX | 02/05/18 | 02/02/18
93518 | BASF Chemicals Division (State/One-Stop) | Freeport, TX | 02/06/18 | 02/05/18
93519 | Cone Denim—Administration and Sales (Company) | Greensboro, NC | 02/06/18 | 02/06/18
93520 | Dentsply Sirona (State/One-Stop) | Des Plaines, IL | 02/06/18 | 02/05/18
93521 | PCI Nitrogen LLC (State/One-Stop) | Pasadena, TX | 02/06/18 | 02/05/18
93522 | Siemens Industry, Inc., Energy Management Division (Company) | West Chicago, IL | 02/06/18 | 01/30/18
93523 | Sony DADC (Workers) | Terre Haute, IN | 02/06/18 | 02/04/18
93524 | EVRAZ Stratcor (State/One-Stop) | Hot Springs, AR | 02/07/18 | 02/06/18
93525 | Gladieux Metals Recycling, LLC (State/One-Stop) | Freeport, TX | 02/07/18 | 02/06/18
93526 | JSW Steel (USA) (State/One-Stop) | Baytown, TX | 02/07/18 | 02/06/18
93527 | Ricoh USA (State/One-Stop) | Lincoln, NE | 02/07/18 | 02/06/18
93528 | Convergys (State/One-Stop) | Sergeant Bluff, IA | 02/08/18 | 02/07/18
93529 | Eaton (State/One-Stop) | Shenandoah, IA | 02/08/18 | 02/07/18
93530 | HCL America, Inc. (Workers) | Naperville, IL | 02/08/18 | 02/06/18
93531 | Siemens Gamesa Renewable Energy (State/One-Stop) | Fort Madison, IA | 02/08/18 | 02/07/18
93532 | StandardAero (Company) | Los Angeles, CA | 02/08/18 | 02/07/18
93533 | Thomson Reuters (State/One-Stop) | Denver, CO | 02/08/18 | 02/07/18
93534 | Convergys (State/One-Stop) | Sergeant Bluff, IA | 02/09/18 | 02/07/18
93535 | Eaton Corporation (State/One-Stop) | Spencer, IA | 02/09/18 | 02/09/18
93536 | Medtronic, PLC (Company) | Santa Rosa, CA | 02/09/18 | 02/08/18
93537 | NetCom Learning (Workers) | New York, NY | 02/09/18 | 02/08/18
93538 | Thomson Reuters (Workers) | New York, NY | 02/09/18 | 02/08/18
93539 | Payless (State/One-Stop) | Topeka, KS | 02/12/18 | 02/09/18
93540 | Carefusion Resources, LLC (State/One-Stop) | San Diego, CA | 02/12/18 | 02/09/18
93541 | Weldbend Corporation (State/One-Stop) | Argo, IL | 02/12/18 | 02/09/18
93542 | Weldbend (State/One-Stop) | Bedford Park, IL | 02/12/18 | 02/09/18
93543 | Ocwen (State/One-Stop) | Waterloo, IA | 02/12/18 | 02/09/18
93544 | Dover Business Services (State/One-Stop) | Hamilton, OH | 02/12/18 | 02/09/18
93545 | Flambeau River Papers LLC (Union) | Park Falls, WI | 02/13/18 | 02/06/18
93546 | General Motors (Union) | Saginaw, MI | 02/13/18 | 02/13/18
93547 | J.R. Simplot Company (State/One-Stop) | West Memphis, AR | 02/13/18 | 02/12/18
93548 | Nuance Communications, Inc. (State/One-Stop) | Burlington, MA | 02/13/18 | 02/13/18
93549 | Cellnetix (State/One-Stop) | Seattle, WA | 02/14/18 | 02/12/18
93550 | Crown Forwarding, Inc. (Company) | Danbury, CT | 02/14/18 | 02/12/18
93551 | Dormeo (State/One-Stop) | Winchester, VA | 02/14/18 | 02/13/18
93552 | Penske Logistics/Corestaff (Workers) | El Paso, TX | 02/14/18 | 01/22/18
93553 | Clinicient, Inc. (State/One-Stop) | Portland, OR | 02/15/18 | 02/14/18
93554 | National Credit Adjusters (State/One-Stop) | Hutchinson, KS | 02/15/18 | 02/12/18
93555 | Swanson Group (State/One-Stop) | Roseburg, OR | 02/15/18 | 02/14/18
93556 | TIDI Products LLC (Workers) | Fenton, MI | 02/16/18 | 02/13/18
93557 | Zodiac Aerospace (C&D Zodiac) (State/One-Stop) | Garden Grove, CA | 02/16/18 | 02/15/18
93558 | ITW Global Tire Repair (State/One-Stop) | Little Rock, AR | 02/20/18 | 02/16/18
93559 | Maplehurst Bakeries, LLC (Company) | Nashville, TN | 02/20/18 | 02/15/18
93560 | Nilfisk (State/One-Stop) | Brooklyn Park, MN | 02/20/18 | 02/16/18
93561 | Penske Logistics (State/One-Stop) | El Paso, TX | 02/20/18 | 02/16/18
93562 | Stahl USA (Workers) | Peabody, MA | 02/20/18 | 11/15/17
93563 | Telvista (State/One-Stop) | Danville, VA | 02/20/18 | 02/16/18
93564 | American Showa (State/One-Stop) | Blanchester, OH | 02/21/18 | 02/20/18
93565 | AT&T Services, Inc. (State/One-Stop) | Dallas, TX | 02/21/18 | 02/20/18
93566 | Allegro Microsystems, LLC (Workers) | Worcester, MA | 02/22/18 | 02/14/18
93567 | John Wiley & Sons, Inc. (State/One-Stop) | Hoboken, NJ | 02/22/18 | 02/22/18
93568 | Lord & Taylor LLC (Workers) | Wilkes Barre, PA | 02/22/18 | 02/21/18
93569 | Siemens Energy Inc. (Company) | Mount Vernon, OH | 02/22/18 | 02/21/18
93570 | Steel Warehouse (State/One-Stop) | Rock Island, IL | 02/22/18 | 02/21/18
93571 | S.E. Wood Products Inc. (State/One-Stop) | Colville, WA | 02/23/18 | 02/22/18
93572 | Smurfit Kappa (State/One-Stop) | City of Industry, CA | 02/23/18 | 02/20/18
93573 | The Guardian Life Insurance Company of America (State/One-Stop) | Pittsfield, MA | 02/23/18 | 02/20/18
93574 | Zones, Inc. (State/One-Stop) | Auburn, WA | 02/23/18 | 02/21/18

[FR Doc. 2018-07298 Filed 4-9-18; 8:45 am]

BILLING CODE 4510-FN-P